DEPARTMENT OF HEALTH AND HUMAN SERVICES

Announcement of the Requirements and Registration for the Healthy New Year Challenge

AGENCY: Office of the National Coordinator for Health Information Technology, HHS.

Award Approving Official: Erin Poetter, Consumer e-Health Policy Analyst.

ACTION: Notice.

SUMMARY: The Office of the National Coordinator for Health Information Technology (ONC), part of the Department of Health and Human Services (HHS), is announcing the launch of the Healthy New Year Challenge. This challenge is an open call for people nationwide to create and submit short videos that capture New Year's resolutions geared towards improving their health or the health of a loved one through the use of technology. The Healthy New Year Challenge is the first in a series of video contests for the public to share their personal stories about how they use health information technology (health IT) or consumer e-health tools to impact their health or the health of a loved one. The goal of this video contest series is to generate winning videos that will be used to motivate and inspire others and their loved ones to use health information technology to be more engaged partners in improving health and health care. Each challenge will be a call to action for members of the public to create a short video clip [2 minutes or less] on a particular theme, and will award cash prizes to winners in several categories.

DATES: Important date(s) for this challenge are:

Submission Period: today-February 16, 2012.

Public Voting: today-March 8, 2012.

Judging: February 23-March 8, 2012.

Winners Announced: Mid-March 2012.

FOR FURTHER INFORMATION CONTACT: Erin Poetter, Consumer e-Health Policy Analyst, ONC, HHS, erin.poetter@hhs.gov or (202) 205-3310.

SUPPLEMENTARY INFORMATION: Subject of Challenge Competition: Entrants are asked to create a short, compelling video (up to 2 minutes in length) sharing one New Year's resolution for improving your health or the health of a loved one, and how you will use technology to achieve your resolution. Videos should be creative, inspiring and instructive—share a new years resolution that others can relate to, and demonstrate how technology will make it easier to achieve.

Your resolution can be anything health related, such as quitting smoking or drinking, eating healthier, losing weight, reducing stress, or managing a chronic condition.

Videos must show how you will use information technology to achieve your resolution. Example entries could include the following kinds of resolutions (these are just examples—Entrants are encouraged to be creative and craft their own resolution):

• I will set up an online personal health record for myself (or another family member) so I can have all of my health information conveniently stored in one place.

• I will ask my doctor for a copy of my own health records—electronically if available—and help him or her to identify any important information that may be missing or need to be corrected.

• I will find an online community that helps me figure out the best ways to manage my health condition (depression, cancer, diabetes, etc.).

• I will use a wireless pedometer to help me track my physical activity and will try to take 10,000 steps per day.

• I will find an app on my Smartphone to help me track my food intake so I can lose 10 pounds by my high school reunion.

• I will sign up for a text reminder program on my cell phone to help me stop smoking or remind me to take my medications on time.

Eligibility Rules for Participating in the Competition:

To be eligible to win a prize under this Challenge, an individual or team—

1. Shall have registered to participate in the Challenge under these Official Rules;

2. Shall have complied with all the requirements set forth herein;

3. Shall be at least eighteen (18) years old at the time of entry;

4. Shall be a citizen or permanent resident of the United States; and

5. May not be a Federal entity or Federal employee acting within the scope of their employment.

6. Shall not be an employee of ONC

7. Federal grantees may not use Federal funds to develop COMPETES Act challenge applications unless consistent with the purpose of their grant award.”]

8. Federal contractors may not use Federal funds from a contract to develop COMPETES Act challenge applications or to fund efforts in support of a COMPETES Act challenge submission.

All individual members of a team must meet the eligibility requirements. (Note: “Team members” do not include people whose only contribution is appearing in the video. Minors can appear in the video, as long as the necessary consent forms are provided.)

An individual or team shall not be deemed ineligible because the individual or team used Federal facilities or consulted with Federal employees during a competition if the facilities and employees are made available to all individuals and teams participating in the competition on an equitable basis.

An individual may join more than one team.

Employees of ONC, the judges, and ChallengePost, Inc. (collectively the “Promotion Entities”) or any of the Promotion Entities' respective affiliates, subsidiaries, advertising agencies, or any other company or individual involved with the design, production, execution, or distribution of the Challenge and their immediate family (spouse, parents and step-parents, siblings and step-siblings, and children and step-children), and household members (people who share the same residence at least three (3) months out of the year) of each Promotion Entity employee are not eligible.

The Challenge is subject to all applicable federal laws and regulations. Participation constitutes Contestant's full and unconditional agreement to these Official Rules and Sponsor's and Administrator's decisions, which are final and binding in all matters related to the Challenge.

Registration Process for Participants:

During the Challenge Submission Period, visit HealthyNewYear.Challenge.gov and register. Registration is free. After a Contestant registers, he or she must verify their email address via the registration email sent to the email entered in the registration form. A registered Contestant will then be able to enter a Submission. A Contestant will be required to fill out the submission form on HealthyNewYear.Challenge.gov and must provide:

• The title of your Video;

• A link to your Video on YouTube.com or Vimeo.com (your Video should be less than 2 minutes long)

There is also a mandatory `text description field' that you may choose to use to provide a text description of your healthy New Year's resolution, how you will use health IT to achieve it, and how you plan to keep and maintain the resolution.

All individuals that appear in a Video must complete and sign the Video Consent Form. If a minor appears in the Video, the minor's parent/legal guardian must also sign the Video Consent Form. A Submission will not be considered complete and eligible to win prizes without a completed Video Consent Form being uploaded from all individuals that appear in the Video. All completed Video Consent Forms must include a handwritten signature, and be scanned, combined in to a single file, and uploaded on the submission form on HealthyNewYear.Challenge.gov.

Amount of the Prize
Winner | Prize | Quantity
First Prize | $2,000 | 1
Second Prize | 1,000 | 1
Third Prize | 500 | 1
Honorable Mention | 250 | 3
Popular Choice | 750 | 1

If a team of individuals is selected as a prize winner, the prize will be awarded to the lead representative of the team and it will be up to him or her to split or appropriately allocate the prize. On award, the lead representative of the group will provide his or her full legal name, social security number, and information for the bank account that will receive the prize money.

Basis Upon Which Winner Will Be Selected:

An internal panel will judge the Submissions on the criteria identified below to select the prize winner in each category. All judging will take place between on or about February 24, 2012 at 10 a.m. EST and March 9, 2012 at 5 p.m. EST.

The following information details the commitment of judges:

• Judges will be fair and impartial.

• A judge may not have a personal or financial interest in, or be an employee, officer, director, or agent of any entity that is a registered participant in the competition.

• A judge may not have a familial or financial relationship with an individual who is a registered Contestant.

Odds of winning depend on the number of eligible Submissions received and the quality of Submissions.

First, Second, Third, and Honorable Mention Prizes—

An internal panel of judges will evaluate each Submission on the following three criteria:

1. Quality of the Idea (Includes elements such as the relevance and originality of your plan to use health IT)

2. Implementation of the Idea (Includes elements such as the quality of the video content, narrative and visual appearance)

3. Potential Impact on health IT adoption (Includes whether the video is compelling, instructive, and easy to follow so that others are motivated or inspired to work to achieve a similar resolution using health technology)

The six (6) Contestant whose Submissions earn the highest overall scores will win, respectively, the prize money identified in the `Amount of Prize' section. In the event of a tie, winners will be selected based on the criteria described in (1), then (2), and finally (3). If there is still a tie then the winner will be selected based on a vote by the judging panel.

Additional Information:

Submission Requirements

• The Video must be no longer than 2 minutes

• The Video must focus on only one health related New Year's resolution

• The Video must show how information technology will be used to help achieve the resolution. Technology use may include electronic health records (EHRs), personal health records (PHRs), e-prescribing technology, and consumer e-health tools (health Web sites, mobile apps, email/text reminders, online communities, and other software applications).

• The Video must include a description of how you plan to maintain/keep your New Year's resolution

• The Video must direct, at any point during the Video, people to the Web site www.HealthIT.gov for more information.

• The Submission may be disqualified if the resolution and technology idea presented in the Video are not the same as or closely related to what is described in the text description.

• The Contestant cannot make any changes or alterations to the Submission once the Submission Period has ended.

• Submissions which in Sponsor and/or Administrator's sole discretion are determined to be substantially similar to a prior submitted entry in the Challenge will be disqualified.

• Submissions must be original, be the work of the Contestant, and must not violate the rights of other parties. Each Contestant represents and warrants that he or she is the sole author and owner of the Submission, that the Submission is wholly original with the Contestant, that it does not infringe any copyright or any other rights of any third party of which the Contestant is aware, and is free of malware.

• The Administrator has the right to request access to the Video file to verify any criteria about the Submission.

• Submissions containing any matter which in the sole discretion of the Sponsor, Administrator and Judges is in obvious bad taste, which demonstrates a lack of respect for public morals or conduct, or which adversely affects the reputation of the Sponsor will not be accepted. If the Sponsor, Administrator, or judges, in their discretion, find any Submission to be unacceptable, then such Submission shall be deemed disqualified.

• All Submissions must be in English.

• The Video cannot have been submitted previously in a promotion or contest of any kind, or previously exhibited or displayed publicly through any means.

• The Video may be submitted in only one category.

• The Video should not include any personal identification information about those in the Video (e.g., full name, address, social security number, etc.).

• The video must not contain more than one instance or mention of a commercial business, industry name, brand name, product placement or other trademark. Videos entered for the purpose of commercial promotion may be disqualified by the Sponsor, Administrator, or judges, in their discretion.

• The Video must not contain material that violates or infringes another's rights, including but not limited to privacy, publicity, or intellectual property rights, or material that constitutes copyright or license infringement.

• The Video must not contain material that is inappropriate, indecent, obscene, hateful, defamatory, slanderous, or libelous.

• The Video must not contain material that promotes bigotry, racism, hatred, or harm against any group or individual, or that promotes discrimination based on race, sex, religion, nationality, disability, sexual orientation, or age.

• The Video must not contain material that violates any applicable law.

Submission Rights:

Each Contestant grants to ONC, the Administrator, and others acting on behalf of ONC, an irrevocable, royalty-free, non-exclusive worldwide license to use, copy for use, distribute, display publicly, perform publicly, create derivative works, and license others to do so for the purpose of the Challenge until one year after the announcement of winners. This license includes posting or linking to the Submission on the official ONC and Administrator Web sites and Web sites of others who have agreed to promote the Challenge, and making it available for use by the public.

Verification of Potential Winners

All potential challenge winners are subject to verification by sponsor and/or administrator whose decisions are final and binding in all matters related to the challenge. Potential winners must continue to comply with all terms and conditions of these Official Rules, and winning is contingent upon fulfilling all requirements. The potential winners will be notified by email, telephone, or mail after the date of the judging. The potential winners will be required to sign and return to Sponsor, within ten (10) days of the date notice is sent, an Affidavit of Eligibility and Liability/Publicity Release (except where prohibited) in order to claim his or her prize. If a potential winner of any prize cannot be contacted, fails to sign and return the Affidavit of Eligibility and Liability/Publicity Release within the required time period (if applicable), or if the prize or prize notification is returned as undeliverable, the potential winner forfeits prize. In the event that a potential winner of a Challenge prize is disqualified for any reason, Sponsor may award the applicable prize to the Contestant whose Submission earned the highest score of the remaining of the eligible entries.

Publicity

Except where prohibited, participation in the Challenge constitutes the winning Contestants' consent to the use of its name, likeness, photograph, voice, opinions, and/or hometown and state by the Sponsor and its agents for promotional purposes in any media, worldwide, without further payment or consideration.

General Conditions

Sponsor and Administrator reserve the right to cancel, suspend and/or modify the Challenge, or any part of it, if any fraud, technical failures, or any other factor impairs the integrity or proper functioning of the Challenge.

Sponsor and/or Administrator reserve the right in their sole discretion to disqualify any individual or Competitor it finds to be tampering with the entry process or the operation of the Challenge or to be acting in violation of these Official Rules or any other promotion or in an unsportsmanlike or disruptive manner. Any attempt by any person to deliberately undermine the legitimate operation of the Challenge may be a violation of criminal and civil law, and, should such an attempt be made, Sponsor and/or Administrator reserves the right to seek damages from any such person to the fullest extent permitted by law. Sponsor and/or Administrator's failure to enforce any term of these Official Rules shall not constitute a waiver of that provision. Sponsor and Administrator are not responsible for, nor are they required to count, incomplete, late, misdirected, damaged, unlawful or illicit votes, including those secured through payment, votes achieved through automated means or by registering more than one email account and name, using another Contestant's email account and name, as well as those lost for technical reasons or otherwise.

Privacy

Sponsor collects personal information from you when you enter the Challenge. The information collected is subject to the ChallengePost privacy policy located at www.challengepost.com/privacy.

Participation in this Challenge constitutes a contestant's full and unconditional agreement to abide by the Challenge's Official Rules found at www.Challenge.gov and http://healthynewyear.challenge.gov/rules.

Authority: 15 U.S.C. 3719.

Dated: January 6, 2012.
Erin Poetter,
Consumer e-Health Policy Analyst, Office of the National Coordinator for Health Information Technology.

[FR Doc. 2012-862 Filed 1-17-12; 8:45 am]

BILLING CODE 4150-45-P